DEPARTMENT OF TRANSPORTATION

Federal Aviation Administration

14 CFR Part 97

[Docket No. 30846; Amdt. No. 3482]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 25, 2012. The compliance date for each SIAP, associated Takeoff Minimums, and ODP is specified in the amendatory provisions.

The incorporation by reference of certain publications listed in the regulations is approved by the Director of the Federal Register as of June 25, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on June 8, 2012.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective July 26, 2012

Sand Point, AK, Sand Point, RAYMD (RNAV) ONE Graphic DP

Sand Point, AK, Sand Point, Takeoff Minimums and Obstacle DP, Amdt 3

Dothan, AL, Dothan Rgnl, ILS OR LOC RWY 14, Amdt 1

Dothan, AL, Dothan Rgnl, ILS OR LOC RWY 32, Amdt 9

Dothan, AL, Dothan Rgnl, RNAV (GPS) RWY 14, Amdt 2

Dothan, AL, Dothan Rgnl, RNAV (GPS) RWY 18, Amdt 2

Dothan, AL, Dothan Rgnl, RNAV (GPS) RWY 32, Amdt 1

Dothan, AL, Dothan Rgnl, RNAV (GPS) RWY 36, Amdt 1

Dothan, AL, Dothan Rgnl, VOR OR TACAN-A, Amdt 13

Mobile, AL, Mobile Rgnl, ILS OR LOC RWY 14, Amdt 31

Mobile, AL, Mobile Rgnl, ILS OR LOC RWY 32, Amdt 7

Mobile, AL, Mobile Rgnl, NDB RWY 14, Amdt 3

Mobile, AL, Mobile Rgnl, RADAR-1, Amdt 5

Mobile, AL, Mobile Rgnl, RNAV (GPS) RWY 14, Amdt 2

Mobile, AL, Mobile Rgnl, RNAV (GPS) RWY 18, Amdt 1

Mobile, AL, Mobile Rgnl, RNAV (GPS) RWY 32, Amdt 2

Mobile, AL, Mobile Rgnl, RNAV (GPS) RWY 36, Amdt 1

Paragould, AR, Kirk Field, NDB RWY 22, Amdt 1A, CANCELED

Douglas Bisbee, AZ, Bisbee Douglas Intl, RNAV (GPS) RWY 17, Orig

Douglas Bisbee, AZ, Bisbee Douglas Intl, VOR RWY 17, Amdt 3

Douglas Bisbee, AZ, Bisbee Douglas Intl, VOR/DME RWY 17, Amdt 6

Fort Huachuca Sierra Vista, AZ, Sierra Vista Muni-Libby AAF, ILS OR LOC RWY 26, Amdt 4

Fort Huachuca Sierra Vista, AZ, Sierra Vista Muni-Libby AAF, VOR RWY 26, Amdt 5

Willcox, AZ, Cochise County, RNAV (GPS) RWY 3, Amdt 1

Willcox, AZ, Cochise County, RNAV (GPS) RWY 21, Amdt 1

Little River, CA, Little River, RNAV (GPS) RWY 29, Amdt 1

Santa Maria, CA, Santa Maria Pub/Capt G Allan Hancock Fld, ILS OR LOC RWY 12, Amdt 10

Van Nuys, CA, Van Nuys, Takeoff Minimums and Obstacle DP, Amdt 5

Washington, DC, Washington Dulles Intl, RNAV (RNP) Z RWY 1C, Orig-E

Washington, DC, Washington Dulles Intl, Takeoff Minimums and Obstacle DP, Amdt 2

Orlando, FL, Orlando Intl, Takeoff Minimums and Obstacle DP, Amdt 2

Wauchula, FL, Wauchula Muni, RNAV (GPS) RWY 18, Amdt 1

Wauchula, FL, Wauchula Muni, RNAV (GPS) RWY 36, Amdt 1

Clinton, IA, Clinton Muni, RNAV (GPS) RWY 14, Amdt 1

Clinton, IA, Clinton Muni, RNAV (GPS) RWY 21, Amdt 1

Cairo, IL, Cairo Rgnl, Takeoff Minimums and Obstacle DP, Orig

Moline, IL, Quad City Intl, Takeoff Minimums and Obstacle DP, Amdt 1

Pittsfield, IL, Pittsfield Penstone Muni, Takeoff Minimums and Obstacle DP, Orig

Washington, KS, Washington County Memorial, NDB-A, Amdt 1, CANCELED

Louisville, KY, Louisville Intl-Standiford Field, Takeoff Minimums and Obstacle DP, Amdt 5

Paducah, KY, Barkley Rgnl, VOR/DME RWY 22, Amdt 6

Portland, ME, Portland Intl Jetport, Takeoff Minimums and Obstacle DP, Amdt 6

Eldon, MO, Eldon Model Airpark, RNAV (GPS) RWY 18, Orig

Eldon, MO, Eldon Model Airpark, RNAV (GPS) RWY 36, Orig

Eldon, MO, Eldon Model Airpark, Takeoff Minimums and Obstacle DP, Orig

Starkville, MS, George M Bryan, LOC/DME RWY 36, Amdt 1

Starkville, MS, George M Bryan, NDB-C, Admt 3, CANCELED

Starkville, MS, George M Bryan, RNAV (GPS) RWY 18, Amdt 2

Starkville, MS, George M Bryan, RNAV (GPS) RWY 36, Amdt 3

Newark, NJ, Newark Liberty Intl, RNAV (RNP) Y RWY 29, Amdt 1

Buffalo, NY, Buffalo Niagara Intl, ILS OR LOC RWY 5, Amdt 15

Buffalo, NY, Buffalo Niagara Intl, ILS OR LOC RWY 23, Amdt 30

Buffalo, NY, Buffalo Niagara Intl, ILS OR LOC/DME RWY 32, Amdt 1

Buffalo, NY, Buffalo Niagara Intl, RNAV (GPS) RWY 5, Amdt 2

Buffalo, NY, Buffalo Niagara Intl, RNAV (GPS) RWY 14 Amdt 1

Buffalo, NY, Buffalo Niagara Intl, RNAV (GPS) RWY 23, Amdt 2

Buffalo, NY, Buffalo Niagara Intl, RNAV (GPS) RWY 32, Amdt 2

Buffalo, NY, Buffalo Niagara Intl, Takeoff Minimums and Obstacle DP, Amdt 6

Cleveland, OH, Cleveland-Hopkins Intl, CONVERGING ILS RWY 24R, Amdt 1, CANCELLED

Cleveland, OH, Cleveland-Hopkins Intl, CONVERGING ILS RWY 28, Orig-B, CANCELED

Cleveland, OH, Cleveland-Hopkins Intl, ILS OR LOC RWY 28, Amdt 24A

Wapakoneta, OH, Neil Armstrong, VOR-A, Amdt 8

Towanda, PA, Bradford County, RNAV (GPS)-A, Orig

Towanda, PA, Bradford County, Takeoff Minimums and Obstacle DP, Amdt 2

Myrtle Beach, SC, Myrtle Beach Intl, ILS OR LOC RWY 18, Amdt 3

Myrtle Beach, SC, Myrtle Beach Intl, ILS OR LOC RWY 36, Amdt 3

Myrtle Beach, SC, Myrtle Beach Intl, RNAV (GPS) RWY 18, Amdt 3

Myrtle Beach, SC, Myrtle Beach Intl, RNAV (GPS) RWY 36, Amdt 3

Myrtle Beach, SC, Myrtle Beach Intl, VOR/DME-A, Amdt 2

Winnsboro, SC, Fairfield County, NDB RWY 4, Amdt 4

Winnsboro, SC, Fairfield County, RNAV (GPS) RWY 4, Amdt 1

Winnsboro, SC, Fairfield County, RNAV (GPS) RWY 22, Amdt 1

Brenham, TX, Brenham Muni, RNAV (GPS) RWY 16, Amdt 2

Brenham, TX, Brenham Muni, RNAV (GPS) RWY 34, Amdt 2

Coleman, TX, Coleman Muni, GPS RWY 15, Orig-A, CANCELLED

Coleman, TX, Coleman Muni, RNAV (GPS) RWY 15, Orig

Eagle Lake, TX, Eagle Lake, RNAV (GPS) RWY 17, Amdt 1

Eagle Lake, TX, Eagle Lake, RNAV (GPS) RWY 35, Amdt 1

La Grange, TX, Fayette Rgnl Air Center, RNAV (GPS) RWY 16, Amdt 2

La Grange, TX, Fayette Rgnl Air Center, RNAV (GPS) RWY 34, Amdt 2

LA Porte, TX, La Porte Muni, RNAV (GPS) RWY 30, Amdt 2

Lubbock, TX, Lubbock Preston Smith Intl, RNAV (GPS) RWY 8, Amdt 2

Lubbock, TX, Lubbock Preston Smith Intl, Takeoff Minimums and Obstacle DP, Amdt 1

Lubbock, TX, Lubbock Preston Smith Intl, VOR/DME OR TACAN RWY 26, Amdt 11

Marion/Wytheville, VA, Mountain Empire, Takeoff Minimums and Obstacle DP, Amdt 2

Bellingham, WA, Bellingham Intl, ILS OR LOC RWY 16, ILS RWY 16 (SA CAT I), Amdt 6

Bellingham, WA, Bellingham Intl, RNAV (GPS) Y RWY 16, Amdt 2

Bellingham, WA, Bellingham Intl, RNAV (GPS) Y RWY 34, Amdt 1

Bellingham, WA, Bellingham Intl, RNAV (RNP) Z RWY 16, Orig

Bellingham, WA, Bellingham Intl, RNAV (RNP) Z RWY 34, Orig

Chehalis, WA, Chehalis-Centralia, RNAV (GPS) RWY 16, Amdt 1

Chehalis, WA, Chehalis-Centralia, Takeoff Minimums and Obstacle DP, Amdt 1

Eastsound, WA, Orcas Island, Takeoff Minimums and Obstacle DP, Amdt 2

Friday Harbor, WA, Friday Harbor, RNAV (GPS) RWY 34, Amdt 2

Yakima, WA, Yakima Air Terminal/McAllister Field, ZILLA THREE Graphic DP

Prairie Du Chien, WI, Prairie Du Chien Muni, Takeoff Minimums and Obstacle DP, Amdt 4

Tomahawk, WI, Tomahawk Rgnl, RNAV (GPS) RWY 9, Amdt 2A

[FR Doc. 2012-14866 Filed 6-22-12; 8:45 am]

BILLING CODE 4910-13-P